FEDERAL COMMUNICATIONS COMMISSION

47 CFR Part 73

[DA 09-185; MB Docket No. 09-9; RM-11511]

Radio Broadcasting Services; Mineral and Nevada City, California

AGENCY: Federal Communications Commission.

ACTION: Proposed rule.

SUMMARY: The Audio Division requests comment on a petition filed by Shamrock Communications, Inc., the permittee of a new FM station on Channel 297C, Alturus, California, proposing the deletion of vacant Channel 297A at Nevada City, California, and the allotment of Channel 297A at Mineral, California. The reference coordinates for Channel 297A at Mineral are 40-16-11 NL and 121-31-46 WL. See SUPPLEMENTARY INFORMATION, infra.

DATES: Comments must be filed on or before March 30, 2009, and reply comments on or before April 14, 2009.

ADDRESSES: Federal Communications Commission, 445 Twelfth Street, SW., Washington, DC 20554. In addition to filing comments with the FCC, interested parties should serve the petitioner, his counsel, or consultant, as follows: Patricia M. Chuh, Esq., Kenneth E. Satten, Esq., Wilkinson Barker Knauer, LLP, 2300 N Street, NW., Suite 700, Washington, DC 20037 (Counsel for Shamrock Communications, Inc.).

FOR FURTHER INFORMATION CONTACT: Andrew J. Rhodes, Media Bureau, (202) 418-2180.

SUPPLEMENTARY INFORMATION: This is a synopsis of the Commission's Notice of Proposed Rule Making, MB Docket No. 09-9, adopted February 2, 2009, and released February 4, 2009. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC, 20554, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The proposed channel changes are part of a hybrid application and rulemaking proceeding. In the application (File No. BMPH-20071108ACY), Shamrock Communications proposes the reallotment of Channel 297C from Alturus California, to Fernley, Nevada, and the associated modification of its construction permit for a new FM station at Alturus. See 72 FR 71909 (December 19, 2007). The modification of the Alturus construction permit is contingent upon the deletion of the Nevada City Allotment.

The Commission's policy is generally not to delete a vacant allotment in which interest has been expressed, absent a compelling reason to do so. Accordingly, the Notice of Proposed Rule Making solicits comment on whether to retain Channel 297A at Nevada City.

The Notice of Proposed Rule Making also proposes to allot Channel 297A at Mineral because it could provide a first local service to that community. Although Shamrock Communications expressed an interest in participating in the auction for Channel 297A at Mineral, it is requested to file the required construction permit application on FCC Form 301 for this allotment by the comment deadline. Finally, a staff engineering analysis reveals a terrain obstruction of 130 meters in height between Shamrock's specified site and the community of Mineral that would require a tall tower of at least 210 meters to overcome the obstruction and provide 70 dBu coverage to all of Mineral. Shamrock is requested to provide documentation regarding its willingness to construct such a tower or to specify a different site that would overcome or obviate the obstruction.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact. For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, 336.

§ 73.202 [Amended]

2. Section 73.202(b), the Table of FM Allotments under California, is amended by removing Nevada City, Channel 297A, and by adding Mineral, Channel 297A.

Federal Communications Commission.
John A. Karousos,
Assistant Chief, Audio Division, Media Bureau.

[FR Doc. E9-3593 Filed 2-19-09; 8:45 am]

BILLING CODE 6712-01-P